FEDERAL HOUSING FINANCE BOARD

[No. 2007-N-01]

Federal Home Loan Bank Members Selected for Community Support Review

AGENCY: Federal Housing Finance Board.

ACTION: Notice.

SUMMARY: The Federal Housing Finance Board (Finance Board) is announcing the Federal Home Loan Bank (Bank) members it has selected for the 2006-07 fourth quarter review cycle under the Finance Board's community support requirements regulation. This notice also prescribes the deadline by which Bank members selected for review must submit Community Support Statements to the Finance Board.

DATES: Bank members selected for this review cycle must submit completed Community Support Statements to the Finance Board on or before February 26, 2007.

ADDRESSES: Submit completed Community Support Statements to the Finance Board either by regular mail at the Federal Housing Finance Board, Office of Supervision, Community Investment and Affordable Housing, 1625 Eye Street NW., Washington, DC 20006, or by electronic mail at FITZGERALDE@FHFB.GOV.

FOR FURTHER INFORMATION CONTACT: Emma J. Fitzgerald, Program Analyst, Office of Supervision, Community Investment and Affordable Housing, by telephone at 202-408-2874, by electronic mail at FITZGERALDE@FHFB.GOV, or by regular mail at the Federal Housing Finance Board, 1625 Eye Street NW., Washington, DC 20006.

SUPPLEMENTARY INFORMATION:

I. Selection for Community Support Review

Section 10(g)(1) of the Federal Home Loan Bank Act (Bank Act) requires the Finance Board to promulgate regulations establishing standards of community investment or service Bank members must meet in order to maintain access to long-term advances. See 12 U.S.C. 1430(g)(1). The regulations promulgated by the Finance Board must take into account factors such as the Bank member's performance under the Community Reinvestment Act of 1977 (CRA), 12 U.S.C. 2901 et seq., and record of lending to first-time homebuyers. See 12 U.S.C. 1430(g)(2). Pursuant to section 10(g) of the Bank Act, the Finance Board has promulgated a community support requirements regulation that establishes standards a Bank member must meet in order to maintain access to long-term advances, and review criteria the Finance Board must apply in evaluating a member's community support performance. See 12 CFR part 944. The regulation includes standards and criteria for the 2 statutory factors—CRA performance and record of lending to first-time homebuyers. 12 CFR 944.3. Only members subject to the CRA must meet the CRA standard. 12 CFR 944.3(b). All members, including those not subject to CRA, must meet the first-time homebuyer standard. 12 CFR 944.3(c).

Under the rule, the Finance Board selects approximately one-eighth of the members in each Bank district for community support review each calendar quarter. 12 CFR 944.2(a). The Finance Board will not review an institution's community support performance until it has been a Bank member for at least 1 year. Selection for review is not, nor should it be construed as, any indication of either the financial condition or the community support performance of the member.

Each Bank member selected for review must complete a Community Support Statement and submit it to the Finance Board by the February 26, 2007 deadline prescribed in this notice. 12 CFR 944.2(b)(1)(ii) and (c). On or before January 26, 2007, each Bank will notify the members in its district that have been selected for this review cycle that they must complete and submit a Community Support Statement to the Finance Board by the deadline. 12 CFR 944.2(b)(2)(i). The member's Bank will provide a blank Community Support Statement Form, which also is available on the Finance Board's Web site: www.fhfb.gov. Upon request, the member's Bank also will provide assistance in completing the Community Support Statement.

The Finance Board has selected the following members for the 2006-07 fourth quarter community support review cycle:

Federal Home Loan Bank of Boston—District 1
Union Savings Bank | Danbury | Connecticut
Jewett City Savings Bank | Jewett City | Connecticut
The First National Bank of Litchfield | Litchfield | Connecticut
Naugatuck Valley Savings and Loan | Naugatuck | Connecticut
New Alliance Bank | New Haven | Connecticut
Newtown Savings Bank | Newtown | Connecticut
Fairfield County Bank-Corp | Ridgefield | Connecticut
Patriot National Bank | Stamford | Connecticut
First County Bank | Stamford | Connecticut
Dutch Point Credit Union, Inc | Wethersfield | Connecticut
Windsor Locks Federal Credit Union | Windsor Locks | Connecticut
Northeast Bank | Auburn | Maine
Bangor Federal Credit Union | Bangor | Maine
Bangor Savings Bank | Bangor | Maine
Bar Harbor Savings & Loan Association | Bar Harbor | Maine
First Citizens Bank | Presque Isle | Maine
York County Federal Credit Union | Sanford | Maine
North Abington Co-operative Bank | Abington | Massachusetts
South Adams Savings Bank | Adams | Massachusetts
Athol Credit Union | Athol | Massachusetts
Barre Savings Bank | Barre | Massachusetts
Crescent Credit Union | Brockton | Massachusetts
Brookline Bank | Brookline | Massachusetts
North Cambridge Co-operative Bank | Cambridge | Massachusetts
Cambridge Trust Company | Cambridge | Massachusetts
Canton Co-Operative Bank | Canton | Massachusetts
Dedham Institution for Savings | Dedham | Massachusetts
Meetinghouse Cooperative Bank | Dorchester | Massachusetts
The Edgartown National Bank | Edgartown | Massachusetts
Fidelity Co-Operative | Fitchburg | Massachusetts
Fitchburg Savings Bank, FSB | Fitchburg | Massachusetts
Greenfield Co-operative Bank | Greenfield | Massachusetts
Haverhill Bank | Haverhill | Massachusetts
Ipswich Co-operative Bank | Ipswich | Massachusetts
Leominster Credit Union | Leominster | Massachusetts
The Lowell Co-operative Bank | Lowell | Massachusetts
Marlborough Savings Bank | Marlborough | Massachusetts
The Milford National Bank & Trust Company | Milford | Massachusetts
Natick Federal Savings Bank | Natick | Massachusetts
Institution for Savings in Newburyport & its Vicinity | Newburyport | Massachusetts
River Bank North | Andover | Massachusetts
South Coastal Bank | Rockland | Massachusetts
Rockland Federal Credit Union | Rockland | Massachusetts
The Cooperative Bank | Roslindale | Massachusetts
Salem Five Cents Savings Bank | Salem | Massachusetts
Taupa Lithuanian Federal Credit Union | South Boston | Massachusetts
Southbridge Credit Union | Southbridge | Massachusetts
Stoneham Savings Bank | Stoneham | Massachusetts
Country Bank for Savings | Ware | Massachusetts
Wellesley Co-operative Bank | Wellesley | Massachusetts
South Shore Co-operative Bank | Weymouth | Massachusetts
Winchester Co-Operative Bank | Winchester | Massachusetts
Bay State Savings Bank | Worcester | Massachusetts
Cape Cod Co-Operative Bank | Yarmouth Port | Massachusetts
Centrix Bank & Trust | Bedford | New Hampshire
Northway Bank | Berlin | New Hampshire
Lancaster National Bank | Lancaster | New Hampshire
Profile Bank | Rochester | New Hampshire
Holy Rosary Regional Credit Union | Rochester | New Hampshire
Bank of Newport | Newport | Rhode Island
Citizens Bank of Rhode Island | Providence | Rhode Island
Greenwood Credit Union | Warwick | Rhode Island
The Brattleboro Savings & Loan Association FA | Brattleboro | Vermont
LyndonBank | Lyndonville | Vermont
First Community Bank | Woodstock | Vermont
Federal Home Loan Bank of New York—District 2
Cape Savings Bank | Cape May Court House | New Jersey
United Roosevelt Savings Bank | Carteret | New Jersey
Commerce Bank, N.A. | Cherry Hill | New Jersey
Unity Bank | Clinton | New Jersey
1st Constitution Bank | Cranbury | New Jersey
Delanco Federal Savings Bank | Delanco | New Jersey
Pinnacle Federal Credit Union | Edison | New Jersey
Columbia Bank | Fair Lawn | New Jersey
Haven Savings Bank | Hoboken | New Jersey
Manasquan Savings Bank | Manasquan | New Jersey
Susquehanna Patriot Bank | Marlton | New Jersey
1st Bank of Sea Isle City | Sea Isle City | New Jersey
Somerset Valley Bank | Somerville | New Jersey
Union Center National Bank | Union | New Jersey
Wawel Savings Bank | Wallington | New Jersey
Crest Savings Bank | Wildwood | New Jersey
The Bridgehampton National Bank | Bridgehampton | New York
Atlas Savings and Loan Association | Brooklyn | New York
Visions Federal Credit Union | Endicott | New York
Bank of Smithtown | Hauppauga | New York
Tompkins Trust Company | Ithaca | New York
The First National Bank of Jeffersonville | Jeffersonville | New York
The National Union Bank of Kinderhook | Kinderhook | New York
Mid-Hudson Valley Federal Credit Union | Kingston | New York
Medina Savings and Loan Association | Medina | New York
Emigrant Savings Bank | New York | New York
Israel Discount Bank of New York | New York | New York
NBT Bank, N.A | Norwich | New York
First Tier Bank & Trust | Olean | New York
The Oneida Savings Bank | Oneida | New York
Wilber National Bank | Oneonta | New York
Suffolk County National Bank | Riverhead | New York
Saratoga National Bank & Trust Company | Saratoga Springs | New York
Sawyer Savings Bank | Saugerties | New York
Tioga State Bank | Spencer | New York
Adirondack Bank | Utica | New York
Walden Federal Savings and Loan Association | Walden | New York
Fourth Federal Savings Bank | White Plains | New York
First Central Savings Bank | Whitestone | New York
City and Suburban Federal Savings Bank | Yonkers | New York
Banco Bilbao Vizcaya Argentaria Puerto Rico | Hato Rey | Puerto Rico
Westernbank Puerto Rico | Mayaguez | Puerto Rico
Federal Home Loan Bank of Pittsburgh—District 3
Christiana Bank & Trust Company | Greenville | Delaware
ING Bank, fsb | Wilmington | Delaware
The First National Bank of Wyoming | Wyoming | Delaware
Commerce Bank/Pennsylvania, N.A | Cherry Hill | New Jersey
American Bank | Allentown | Pennsylvania
Iron Workers Bank | Aston | Pennsylvania
Brentwood Bank | Bethel Park | Pennsylvania
National Penn Bank | Boyertown | Pennsylvania
Union Building & Loan Savings Bank | Bridgewater | Pennsylvania
Community Bank & Trust Co | Clarks Summit | Pennsylvania
Clearfield Bank & Trust Company | Clearfield | Pennsylvania
Vartan National Bank | Harrisburg | Pennsylvania
The Dime Bank | Honesdale | Pennsylvania
Indiana First Bank | Indiana | Pennsylvania
Jim Thorpe National Bank | Jim Thorpe | Pennsylvania
Manor National Bank | Manor | Pennsylvania
Province Bank FSB | Marietta | Pennsylvania
The First National Bank of Marysville | Marysville | Pennsylvania
Standard Bank, PaSB | Monroeville | Pennsylvania
SB1 Federal Credit Union | Philadelphia | Pennsylvania
American Heritage Federal Credit Union | Philadelphia | Pennsylvania
The Philadelphia Trust Company | Philadelphia | Pennsylvania
New Century Bank | Phoenixville | Pennsylvania
Allegheny Valley Bank | Pittsburgh | Pennsylvania
PNC Bank, National Association | Pittsburgh | Pennsylvania
GUARD Security Bank | Plains | Pennsylvania
Somerset Trust Company | Somerset | Pennsylvania
Univest National Bank and Trust Company | Souderton | Pennsylvania
Omega Bank N/A | State College | Pennsylvania
Compass Federal Savings Bank | Wilmerding | Pennsylvania
Sovereign Bank FSB | Wyomissing | Pennsylvania
Hancock County Savings Bank FSB | Chester | West Virginia
Citizens National Bank | Elkins | West Virginia
The Monongahela Valley Bank, Inc | Fairmont | West Virginia
Fayette County National Bank | Fayetteville | West Virginia
Rock Branch Community Bank | Nitro | West Virginia
The Bank of Romney | Romney | West Virginia
Traders Bank | Spencer | West Virginia
Progressive Bank, N.A | Wheeling | West Virginia
Federal Home Loan Bank of Atlanta—District 4
First Educators Credit Union | Birmingham | Alabama
America's First Federal Credit Union | Birmingham | Alabama
First Bank of Boaz | Boaz | Alabama
Town-Country National Bank | Camden | Alabama
Coosa Pines Federal Credit Union | Childersburg | Alabama
Escambia County Bank | Flomaton | Alabama
First Gulf Bank, N.A | Foley | Alabama
First Federal Bank | Fort Payne | Alabama
Traders & Farmers Bank | Haleyville | Alabama
City Bank of Hartford | Hartford | Alabama
First National Bank of Jasper | Jasper | Alabama
Pinnacle Bank | Jasper | Alabama
Marion Bank and Trust Company | Marion | Alabama
Bank of Pine Hill | Pine Hill | Alabama
Alabama Credit Union | Tuscaloosa | Alabama
First Federal Bank, A Federal Savings Bank | Tuscaloosa | Alabama
Alabama Exchange Bank | Tuskegee | Alabama
AmeriFirst Bank | Union Springs | Alabama
Small Town Bank | Wedowee | Alabama
Bank of York | York | Alabama
Independence Federal Savings Bank | Washington | D.C.
Department of Veterans Affairs FCU | Washington | D.C.
Community National Bank of Bartow | Bartow | Florida
First Southern Bank | Boca Raton | Florida
Platinum Bank | Brandon | Florida
R-G Crown Bank | Casselberry | Florida
First National Bank of Nassau County | Fernandian Beach | Florida
Harbor Federal Savings Bank | Fort Pierce | Florida
Citizens Bank & Trust | Frostproof | Florida
Homosassa Springs Bank | Homosassa Springs | Florida
Columbia Bank | Lake City | Florida
Metro Bank of Dade County | Miami | Florida
City National Bank of Florida | Miami | Florida
Pacific National Bank | Miami | Florida
Northern Trust, N.A | Miami | Florida
Interamerican Bank, a Federal Savings Bank | Miami | Florida
Intercredit Bank, N.A | Miami | Florida
Farmers and Merchants Bank | Monticello | Florida
The First National Bank of Mount Dora | Mount Dora | Florida
First Commercial Bank of Florida | Orlando | Florida
Fairwinds Credit Union | Orlando | Florida
GulfStream Community Bank | Port Richey | Florida
First Peoples Bank | Port St. Lucie | Florida
Community Educators' Credit Union of Brevard | Rockledge | Florida
Public Bank | St. Cloud | Florida
Cornerstone Community Bank | St. Petersburg | Florida
First Community Bank of America | St. Petersburg | Florida
Valrico State Bank | Valrico | Florida
Grand Bank & Trust of Florida | West Palm Beach | Florida
Fidelity Federal Bank & Trust | West Palm Beach | Florida
The Perkins State Bank | Williston | Florida
Albany Bank and Trust | Albany | Georgia
North Atlanta National Bank | Alpharetta | Georgia
Bank of North Georgia | Alpharetta | Georgia
ebank | Atlanta | Georgia
United Americas Bank, N.A | Atlanta | Georgia
SunTrust Bank | Atlanta | Georgia
First Port City Bank | Bainbridge | Georgia
Peoples State Bank and Trust | Baxley | Georgia
Bank of Early | Blakely | Georgia
The Coastal Bank of Georgia | Brunswick | Georgia
West Georgia National Bank | Carrollton | Georgia
Unity National Bank | Cartersville | Georgia
Tippins Bank and Trust Company | Claxton | Georgia
The Citizens Bank of Forsyth County | Cumming | Georgia
First Bank of Dalton | Dalton | Georgia
Alliance National Bank | Dalton | Georgia
Decatur First Bank | Decatur | Georgia
The Peachtree Bank | Duluth | Georgia
The Bank of Edison | Edison | Georgia
Talbot State Bank | Fayetteville | Georgia
Community Banking Company of Fitzgerald | Fitzgerald | Georgia
Colony Bank of Fitzgerald | Fitzgerald | Georgia
Farmers State Bank | Lumpkin | Georgia
Southern National Bank | Marietta | Georgia
The Security State Bank | McRae | Georgia
First Bank of Coastal Georgia | Pembroke | Georgia
First Peoples Bank | Pine Mountain | Georgia
Colony Bank Quitman, FSB | Quitman | Georgia
Citizens Bank of Washington County | Sandersville | Georgia
Bank of Hancock County | Sparta | Georgia
Thomas County Federal S&L Association | Thomasville | Georgia
Stephens Federal Bank | Toccoa | Georgia
Bank of Dade | Trenton | Georgia
Commercial Banking Company | Valdosta | Georgia
Altamaha Bank and Trust Company | Vidalia | Georgia
Darby Bank and Trust Company | Vidalia | Georgia
Vidalia Federal Savings Bank | Vidalia | Georgia
Bank of Dooly | Vienna | Georgia
The Peoples Bank | Willacoohee | Georgia
The Peoples Bank | Winder | Georgia
Harford Bank | Aberdeen | Maryland
Fairmount Federal Savings Bank | Baltimore | Maryland
Rosedale Federal Savings & Loan Association | Baltimore | Maryland
Arundel Federal Savings Bank | Baltimore | Maryland
Chesapeake Bank of Maryland | Baltimore | Maryland
Golden Prague Federal Savings and Loan Association | Baltimore | Maryland
Madison Square Federal Savings Bank | Baltimore | Maryland
Municipal Employees Credit Union of Baltimore | Baltimore | Maryland
Hopkins Federal Savings Bank | Baltimore | Maryland
Marriott Employees Federal Credit Union | Bethesda | Maryland
Chevy Chase Bank, F.S.B | Bethesda | Maryland
U.S. Postal Service Federal Credit Union | Clinton | Maryland
Suburban Federal Savings Bank | Crofton | Maryland
The Bank of Delmarva, N.A | Delmar | Maryland
The Patapsco Bank | Dundalk | Maryland
Farmers and Mechanics Bank | Frederick | Maryland
OBA Federal Savings Bank | Germantown | Maryland
Library of Congress Federal Credit Union | Hyattsville | Maryland
Senator Bank | Timonium | Maryland
Community Bank of Tri-County | Waldorf | Maryland
Woodsboro Bank | Woodsboro | Maryland
The Bank of Asheville | Asheville | North Carolina
Asheville Savings Bank | Asheville | North Carolina
Crescent State Bank | Cary | North Carolina
Charlotte Metro Credit Union | Charlotte | North Carolina
First Trust Bank | Charlotte | North Carolina
Cherryville Federal S&L Association | Cherryville | North Carolina
First Federal Bank | Dunn | North Carolina
Mutual Community Savings Bank, Inc. SSB | Durham | North Carolina
North Carolina Community Federal Credit | Goldsboro | North Carolina
First Federal Savings Bank | Lincolnton | North Carolina
Mooresville Savings Bank, SSB | Mooresville | North Carolina
Lumbee Guarantee Bank | Pembroke | North Carolina
Paragon Commercial Bank | Raleigh | North Carolina
North Carolina Local Government Employees | Raleigh | North Carolina
Roanoke Valley Savings Bank, SSB | Roanoke Rapids | North Carolina
Roxboro Savings Bank, SSB | Roxboro | North Carolina
First South Bank | Washington | North Carolina
WNC Community Credit Union | Waynesville | North Carolina
Truliant Federal Credit Union | Winston-Salem | North Carolina
Abbeville Savings and Loan Association | Abbeville | South Carolina
Sentry Bank and Trust | Cheraw | South Carolina
The Conway National Bank | Conway | South Carolina
Sharonview Federal Credit Union | Fort Mill | South Carolina
First Piedmont F&SL Association of Gaffney | Gaffney | South Carolina
S.C. Telco Federal Credit Union | Greenville | South Carolina
Citizens Building and Loan Association | Greer | South Carolina
Mutual Savings Bank | Hartsville | South Carolina
The Commercial Bank | Honea Path | South Carolina
Founders Federal Credit Union | Lancaster | South Carolina
First Community Bank, N.A | Lexington | South Carolina
Pee Dee Federal Savings Bank | Marion | South Carolina
Coastal Federal Bank | Myrtle Beach | South Carolina
South Carolina Federal Credit Union | North Charleston | South Carolina
First Savers Bank | Pawleys Island | South Carolina
Family Trust Federal Credit Union | Rock Hill | South Carolina
Seneca National Bank | Seneca | South Carolina
Oconee Federal Savings and Loan Association | Seneca | South Carolina
Community First Bank | Walhalla | South Carolina
First Federal of South Carolina, FSB | Walterboro | South Carolina
Bank of Walterboro | Walterboro | South Carolina
Citizens Bank and Trust Company | Blackstone | Virginia
First Community Bank, N.A | Bluefield | Virginia
Alliance Bank Corporation | Chantilly | Virginia
Monarch Bank | Chesapeake | Virginia
Acacia Federal Savings Bank | Falls Church | Virginia
Virginia Savings Bank, F.S.B | Front Royal | Virginia
Virginia Community Bank | Louisa | Virginia
First Federal Savings and Loan Association | Martinsville | Virginia
Cardinal Bank | McLean | Virginia
Capital One, F.S.B | McLean | Virginia
Community Bankers' Bank | Midlothian | Virginia
TowneBank | Portsmouth | Virginia
Millennium Bank, N.A | Reston | Virginia
Partners Financial Federal Credit Union | Richmond | Virginia
Shenandoah Life Insurance Company | Roanoke | Virginia
Franklin Security Bank, FSB | Virginia Beach | Virginia
Shenandoah Valley National Bank | Winchester | Virginia
Fort Belvoir Federal Credit Union | Woodbridge | Virginia
Federal Home Loan Bank of Cincinnati—District 5
Home FS&LA of Ashland | Ashland | Kentucky
Fort Campbell Federal Credit Union | Clarksville | Kentucky
Kentucky Federal Savings and Loan Association | Covington | Kentucky
Greensburg Deposit Bank and Trust Company | Greensburg | Kentucky
The Casey County Bank | Liberty | Kentucky
Independence Bank | Livermore | Kentucky
Laurel National Bank | London | Kentucky
Louisville Community Development Bank | Louisville | Kentucky
Home Savings Bank, fsb | Ludlow | Kentucky
First Guaranty Bank | Martin | Kentucky
Bank of Maysville | Maysville | Kentucky
Hart County Bank and Trust Company | Munfordville | Kentucky
The Farmers Bank | Nicholasville | Kentucky
First Security Bank of Owensboro, Inc | Owensboro | Kentucky
Owingsville Banking Company | Owingsville | Kentucky
Family Bank, FSB | Paintsville | Kentucky
Community Trust Bank, Inc | Pikeville | Kentucky
Madison Bank | Richmond | Kentucky
Cumberland Security Bank, Inc | Somerset | Kentucky
Citizens National Bank of Somerset | Somerset | Kentucky
Commercial Bank | West Liberty | Kentucky
The Antwerp Exchange Bank Company | Antwerp | Ohio
Hocking Valley Bank | Athens | Ohio
Rockhold, Brown & Company Bank | Bainbridge | Ohio
Citizens Federal Savings and Loan Association of Bellefontaine | Bellefontaine | Ohio
The Citizens Bank Company | Beverly | Ohio
Mercer Savings Bank | Celina | Ohio
The Cheviot Savings Bank | Cheviot | Ohio
Cincinnati Federal Savings and Loan Association | Cincinnati | Ohio
Kemba Credit Union, Inc | Cincinnati | Ohio
Cincinnati Police Federal Credit Union | Cincinnati | Ohio
The North Side Bank and Trust Company | Cincinnati | Ohio
National City Bank | Cleveland | Ohio
Ohio Savings Bank | Cleveland | Ohio
Commerce National Bank | Columbus | Ohio
The Home Loan Savings Bank | Coshocton | Ohio
The Covington Savings and Loan Association | Covington | Ohio
The Citizens Bank of DeGraff | De Graff | Ohio
Midwest Community FCU | Defiance | Ohio
First Place Bank | Elyria | Ohio
First National Bank of Germantown | Germantown | Ohio
Indian Village Community Bank | Gnadenhutten | Ohio
Chaco Credit Union, Inc | Hamilton | Ohio
The Hicksville Bank | Hicksville | Ohio
The Citizens Bank of Higginsport | Higginsport | Ohio
Salt Creek Valley Bank | Laurelville | Ohio
The Delaware County Bank & Trust Company | Lewis Center | Ohio
The Home Builders Association | Lynchburg | Ohio
The Bank of Magnolia Company | Magnolia | Ohio
The Citizens Savings Bank | Martins Ferry | Ohio
Peoples Building, Loan and Savings Company | Mason | Ohio
Western Reserve Bank | Medina | Ohio
Bramble Savings Bank | Milford | Ohio
The Commercial & Savings Bank of Millersburg | Millersburg | Ohio
The First National Bank of Nelsonville | Nelsonville | Ohio
Peoples National Bank | New Lexington | Ohio
The First National Bank of Pandora | Pandora | Ohio
Century Bank | Parma | Ohio
Farmers Bank and Savings Company | Pomeroy | Ohio
The St. Henry Bank | St. Henry | Ohio
The Arlington Bank | Upper Arlington | Ohio
The Commercial Savings Bank | Upper Sandusky | Ohio
The First Citizens NB of Upper Sandusky | Upper Sandusky | Ohio
The Versailles Savings and Loan Company | Versailles | Ohio
First National Bank of Waverly | Waverly | Ohio
Spring Valley Bank | Wyoming | Ohio
The Home Savings and Loan Company of Youngstown Ohio | Youngstown, | Ohio
Century National Bank | Zanesville | Ohio
Athens Federal Community Bank | Athens | Tennessee
Benton Banking Company | Benton | Tennessee
People's Bank and Trust Co. of Pickett County | Byrdstown | Tennessee
Bank of Camden | Camden | Tennessee
Legends Bank | Clarksville | Tennessee
Bank Tennessee | Collierville | Tennessee
Greenfield Banking Company | Greenfield | Tennessee
First Peoples Bank of Tennessee | Jefferson City | Tennessee
Lawrenceburg FS&LA | Lawrenceburg | Tennessee
Community Bank | Lexington | Tennessee
Union Bank & Trust Company | Livingston | Tennessee
City of Memphis Credit Union | Memphis | Tennessee
Farmers State Bank | Mountain City | Tennessee
Cumberland Bank | Nashville | Tennessee
The Tennessee Credit Union | Nashville | Tennessee
Citizens Savings Bank & Trust Company | Nashville | Tennessee
The First National Bank of Oneida | Oneida | Tennessee
First Trust & Savings Bank | Oneida | Tennessee
Citizens B&TC of Grainger County | Rutledge | Tennessee
The Bank of Waynesboro | Waynesboro | Tennessee
Federal Home Loan Bank of Indianapolis—District 6
Knisely Bank | Butler | Indiana
The Elberfeld State Bank | Elberfeld | Indiana
FORUM Credit Union | Fishers | Indiana
Mutual Savings Bank | Franklin | Indiana
First FS & LA of Hammond | Hammond | Indiana
MainSource Bank | Hobart | Indiana
First Indiana Bank | Indianapolis | Indiana
Central Indiana School Educators Credit Union | Indianapolis | Indiana
The Lafayette Life Insurance Company | Lafayette | Indiana
Farmers State Bank | LaGrange | Indiana
Linden State Bank | Linden | Indiana
MFB Financial | Mishawaka | Indiana
St. Joseph Capital Bank | Mishawaka | Indiana
West End Bank, S.B. | Richmond | Indiana
Scott County State Bank | Scottsburg | Indiana
Communitywide Federal Credit Union | South Bend | Indiana
Indiana State University Federal Credit Union | Terre Haute | Indiana
Steel Parts Federal Credit Union | Tipton | Indiana
Purdue Employees Federal Credit Union | West Lafayette | Indiana
United Communities National Bank | Winchester | Indiana
TLC Community Credit Union | Adrian | Michigan
Community Bank of Dearborn | Allen Park | Michigan
Sunrise Family Credit Union | Bay City | Michigan
Brighton Commerce Bank | Brighton | Michigan
Macomb Community Bank | Clinton Township | Michigan
DFCU Financial Federal Credit Union | Dearborn | Michigan
First Independence National Bank | Detroit | Michigan
Communicating Arts Credit Union | Detroit | Michigan
Michigan State University FCU | East Lansing | Michigan
Northern Michigan Bank & Trust | Escanaba | Michigan
Citizens Bank | Flint | Michigan
Grand Haven Bank | Grand Haven | Michigan
Lake Michigan Credit Union | Grand Rapids | Michigan
Mercantile Bank of West Michigan | Grand Rapids | Michigan
Northpointe Bank | Grand Rapids | Michigan
Greenville Community Bank | Greenville | Michigan
Mainstreet Savings Bank, FSB | Hastings | Michigan
The Bank of Holland | Holland | Michigan
Honor State Bank | Honor | Michigan
Ionia County National Bank of Ionia | Ionia | Michigan
First National Bank of Iron Mountain | Iron Mountain | Michigan
Mayville State Bank | Mayville | Michigan
Wolverine Bank, FSB | Midland | Michigan
Dow Chemical Employee Credit Union | Midland | Michigan
Northland Area Federal Credit Union | Oscoda | Michigan
The Port Austin State Bank | Port Austin | Michigan
Portage Commerce Bank | Portage | Michigan
Central Savings Bank | Sault Ste. Marie | Michigan
Sturgis Bank & Trust Company | Sturgis | Michigan
First Savings Bank, FSB | Three Rivers | Michigan
Howmet Credit Union | Whitehall | Michigan
Federal Home Loan Bank of Chicago—District 7
Citizens National Bank of Albion | Albion | Illinois
Farmers State Bank of Western Illinois | Alpha | Illinois
Anna National Bank | Anna | Illinois
Apple River State Bank | Apple River | Illinois
Arcola Homestead Savings Bank | Arcola | Illinois
The First National Bank of Arcola | Arcola | Illinois
The First National Bank of Arenzville | Arenzville | Illinois
Ben Franklin Bank of Illinois | Arlington Heights | Illinois
State Bank of Ashland | Ashland | Illinois
Farmers State Bank of Astoria | Astoria | Illinois
The Atlanta National Bank | Atlanta | Illinois
Better Banks | Bartonville | Illinois
Scott State Bank | Bethany | Illinois
First State Bank of Bloomington | Bloomington | Illinois
Midland Federal Savings and Loan Association | Bridgeview | Illinois
Farmers and Merchants State Bank of Bushnell | Bushnell | Illinois
Byron Bank | Byron | Illinois
First State Bank of Campbell Hill | Campbell Hill | Illinois
Carrollton Bank | Carrollton | Illinois
Main Street Bank & Trust | Champaign | Illinois
State Bank of Cherry | Cherry | Illinois
Bank of Chestnut | Chestnut | Illinois
Seaway National Bank | Chicago | Illinois
Second Federal Savings and Loan Association of Chicago | Chicago | Illinois
American Metro Bank | Chicago | Illinois
Hoyne Savings Bank | Chicago | Illinois
Chicago Patrolmens Federal Credit Union | Chicago | Illinois
Loomis Federal Savings & Loan Association | Chicago | Illinois
Royal Savings Bank | Chicago | Illinois
Illinois Service FS&LA | Chicago | Illinois
North Side Federal Savings and Loan Association of Chicago. | Chicago | Illinois
Central Federal Savings and Loan Association | Cicero | Illinois
Mid America Bank, fsb | Clarendon Hills | Illinois
Central State Bank | Clayton | Illinois
DeWitt Savings Bank | Clinton | Illinois
First Federal Bank | Colchester | Illinois
First Collinsville Bank | Collinsville | Illinois
First United Bank | Crete | Illinois
Crystal Lake Bank & Trust Company, N.A | Crystal Lake | Illinois
Soy Capital Bank & Trust Company | Decatur | Illinois
Castle Bank, N.A | DeKalb | Illinois
Downers Grove National Bank | Downers Grove | Illinois
Erie State Bank | Erie | Illinois
Community First Bank | Fairview Heights | Illinois
Bank of Farmington | Farmington | Illinois
Heritage Bank | Frankfort | Illinois
Community State Bank | Galva | Illinois
Gifford State Bank | Gifford | Illinois
Harvard Savings Bank | Harvard | Illinois
Mutual Bank | Harvey | Illinois
Premier Bank of Jacksonville | Jacksonville | Illinois
Joy State Bank | Joy | Illinois
First Trust Bank | Kankakee | Illinois
First National Bank of LaGrange | LaGrange | Illinois
Cambridge Bank | Lake Zurich | Illinois
Exchange State Bank | Lanark | Illinois
Lemont National Bank | Lemont | Illinois
State Bank of Lincoln | Lincoln | Illinois
Prairie State Bank | Marengo | Illinois
A.J. Smith Federal Savings Bank | Midlothian | Illinois
Southeast National Bank | Moline | Illinois
Security Savings Bank | Monmouth | Illinois
Farmers State Bank and Trust Company | Mt. Sterling | Illinois
The First National Bank | Mulberry Grove | Illinois
First County Bank | New Baden | Illinois
Warren-Boynton State Bank | New Berlin | Illinois
Peoples State Bank of Newton | Newton | Illinois
Old Exchange National Bank | Okawville | Illinois
First Personal Bank | Orland Park | Illinois
Ottawa Savings Bank | Ottawa | Illinois
State Bank of Paw Paw | Paw Paw | Illinois
Farmers-Merchants National Bank of Paxton | Paxton | Illinois
Morton Community | Pekin | Illinois
The Heights Bank | Peoria Heights | Illinois
Town & Country Bank of Quincy | Quincy | Illinois
Community State Bank of Rock Falls | Rock Falls | Illinois
Alpine Bank of Illinois | Rockford | Illinois
MB Financial Bank, NA | Rosemont | Illinois
Rushville State Bank | Rushville | Illinois
AmericaUnited Bank and Trust Company USA | Schaumburg | Illinois
American Chartered Bank | Schaumburg | Illinois
State Bank of Speer | Speer | Illinois
Illini Bank | Springfield | Illinois
Tuscola National Bank | Tuscola | Illinois
Baxter Credit Union | Vernon Hills | Illinois
Petefish, Skiles and Company Bank | Virginia | Illinois
Bank of Warrensburg | Warrensburg | Illinois
First DuPage Bank | Westmont | Illinois
Community Bank | Winslow | Illinois
State Bank | Wonder Lake | Illinois
Portage County Bank | Almond | Wisconsin
Pioneer Bank | Auburndale | Wisconsin
First Bank of Baldwin | Baldwin | Wisconsin
Black River Country Bank | Black River Falls | Wisconsin
Dairyman's State Bank | Clintonville | Wisconsin
Farmers & Merchants Union Bank | Columbus | Wisconsin
Wisconsin Community Bank | Cottage Grove | Wisconsin
Cumberland Federal Bank, FSB | Cumberland | Wisconsin
Town Bank | Delafield | Wisconsin
Cornerstone Community Bank | Grafton | Wisconsin
Bay Bank | Green Bay | Wisconsin
Highland State Bank | Highland | Wisconsin
The Park Bank | Holmen | Wisconsin
Security State Bank | Iron River | Wisconsin
East Wisconsin Savings Bank, S.A | Kaukauna | Wisconsin
Greenwood's State Bank | Lake Mills | Wisconsin
First Bank & Trust | Menomonie | Wisconsin
Bank of Milton | Milton | Wisconsin
Bank Mutual | Milwaukee | Wisconsin
Universal Savings Bank | Milwaukee | Wisconsin
Milwaukee Western Bank | Milwaukee | Wisconsin
First National Bank—Fox Valley | Neenah | Wisconsin
Clare Bank, N.A | Platteville | Wisconsin
Mound City Bank | Platteville | Wisconsin
First National Bank of Platteville | Platteville | Wisconsin
First National Bank of River Falls | River Falls | Wisconsin
Intercity State Bank | Schofield | Wisconsin
Community Bank & Trust | Sheboygan | Wisconsin
Bank of Sun Prairie | Sun Prairie | Wisconsin
Walworth State Bank | Walworth | Wisconsin
First Federal Savings Bank of Wisconsin | Waukesha | Wisconsin
The State Bank of Viroqua | Westby | Wisconsin
Wood County National Bank | Wisconsin Rapids | Wisconsin
River Cities Bank | Wisconsin Rapids | Wisconsin
KeySavings Bank | Wisconsin Rapids | Wisconsin
Federal Home Loan Bank of Des Moines—District 8
Landmands National Bank | Audubon | Iowa
Community Bank of Boone | Boone | Iowa
Iowa Savings Bank | Carroll | Iowa
Commercial Savings Bank | Carroll | Iowa
Page County State Bank | Clarinda | Iowa
Linn County State Bank | Coggon | Iowa
Farmers Savings Bank | Colesburg | Iowa
Okey Vernon First National Bank | Corning | Iowa
Corydon State Bank | Corydon | Iowa
Fortress Bank of Cresco | Cresco | Iowa
Alliant Credit Union | Dubuque | Iowa
First National Bank in Fairfield | Fairfield | Iowa
Farmers Savings Bank | Fostoria | Iowa
Grinnell Mutual Reinsurance Company | Grinnell | Iowa
Security State Bank | Hubbard | Iowa
First State Bank of Mapleton | Mapleton | Iowa
Maxwell State Bank | Maxwell | Iowa
Bridge Community Bank | Mount Vernon | Iowa
State Bank and Trust Company | Nevada | Iowa
New Vienna Savings Bank | New Vienna | Iowa
First Newton National Bank | Newton | Iowa
First State Bank | Nora Springs | Iowa
Farmers State Bank | Northwood | Iowa
The First National Bank, Oelwein | Oelwein | Iowa
City State Bank | Ogden | Iowa
American State Bank | Osceola | Iowa
Panora State Bank | Panora | Iowa
Marion County State Bank | Pella | Iowa
Savings Bank | Primghar | Iowa
Readlyn Savings Bank | Readlyn | Iowa
Premier Bank | Rock Valley | Iowa
Home State Bank | Royal | Iowa
Iowa State Bank | Sac City | Iowa
Sanborn Savings Bank | Sanborn | Iowa
The State Bank | Spirit Lake | Iowa
Meta Bank | Storm Lake | Iowa
The State Bank of Toledo | Toledo | Iowa
Farmers Savings Bank | Walford | Iowa
Iowa State Bank | Wapello | Iowa
Farmers State Bank | Waterloo | Iowa
Security State Bank | Waverly | Iowa
State Bank of Waverly | Waverly | Iowa
First State Bank | Webster City | Iowa
Freedom Financial Bank | West Des Moines | Iowa
Union State Bank | Winterset | Iowa
Farmers & Merchants State Bank | Winterset | Iowa
First State Bank of Alexandria | Alexandria | Minnesota
Altura State Bank | Altura | Minnesota
American National Bank of Minnesota | Baxter | Minnesota
First State Bank and Trust | Bayport | Minnesota
First National Bank Bemidji | Bemidji | Minnesota
State Bank of Bricelyn | Bricelyn | Minnesota
Farmers and Merchants State Bank | Clarkfield | Minnesota
The First National Bank of Coleraine | Coleraine | Minnesota
Farmers State Bank of Dent | Dent | Minnesota
Northwestern Bank N.A. | Dilworth | Minnesota
Western National Bank | Duluth | Minnesota
Fidelity Bank | Edina | Minnesota
State Bank of Fairmont | Fairmont | Minnesota
Franklin State Bank | Franklin | Minnesota
Commerce Bank | Geneva | Minnesota
First National Bank | Gilbert | Minnesota
Yellow Medicine County Bank | Granite Falls | Minnesota
Marshall Bank National Association | Hallock | Minnesota
Merchant Bank, National Association | Hampton | Minnesota
1st American State Bank of Minnesota | Hancock | Minnesota
First Southeast Bank | Harmony | Minnesota
Farmers State Bank of Hartland | Hartland | Minnesota
Exchange State Bank | Hills | Minnesota
CornerStone State Bank | La Sueur | Minnesota
First Community Bank Lester Prairie | Lester Prairie | Minnesota
Center National Bank | Litchfield | Minnesota
Northern Star Bank | Mankato | Minnesota
First National Bank of Montgomery | Montgomery | Minnesota
United Farmers & Merchants State Bank | Morris | Minnesota
Lakewood Bank N.A | Nisswa | Minnesota
Citizens State Bank Norwood Young America | Norwood Young America | Minnesota
Washington County Bank, N.A | Oakdale | Minnesota
Odin State Bank | Odin | Minnesota
First State Bank Southwest | Pipestone | Minnesota
PrinsBank | Prinsburg | Minnesota
Randall State Bank | Randall | Minnesota
First Security Bank—Storden | Reinville | Minnesota
Woodland Bank | Remer | Minnesota
Home Federal Savings Bank | Rochester | Minnesota
North Star Bank | Roseville | Minnesota
Unity Bank East | Rush City | Minnesota
First Community Bank | Savage | Minnesota
First Community Bank Silver Lake | Silver Lake | Minnesota
Park Midway Bank | St. Paul | Minnesota
Integrity Plus Bank | Wabasso | Minnesota
Citizens State Bank of Waverly | Waverly | Minnesota
Flagship Bank Minnesota | Wayzata | Minnesota
Wells Federal Bank | Wells | Minnesota
St. Paul Postal Employees Credit Union | Woodbury | Minnesota
Worthington Federal Savings Bank f.s.b | Worthington | Minnesota
First Missouri National Bank | Brookfield | Missouri
BC National Banks | Butler | Missouri
Community First Bank | Butler | Missouri
Carroll County Trust Company | Carrollton | Missouri
Chillicothe State Bank | Chillicothe | Missouri
Investors National Bank | Chillicothe | Missouri
Concordia Bank | Concordia | Missouri
First State Community Bank | Farmington | Missouri
Ozarks Federal Savings and Loan Association | Farmington | Missouri
The Callaway Bank | Fulton | Missouri
Northland National Bank | Gladstone | Missouri
Bank Northwest | Hamilton | Missouri
HNB National Bank | Hannibal | Missouri
Eagle Bank & Trust Company of Missouri | Hillsboro | Missouri
Bank of Iberia | Iberia | Missouri
Generations Bank | Kansas City | Missouri
Kennett National Bank | Kennett | Missouri
Lamar Bank & Trust Company | Lamar | Missouri
Central Bank | Lebanon | Missouri
Summit Lee's Bank of Kansas City | Lee's Summit | Missouri
Linn State Bank | Linn | Missouri
First National Bank | Malden | Missouri
Wood & Huston Bank | Marshall | Missouri
Community Bank of Marshall | Marshall | Missouri
The First National Bank of Audrain County | Mexico | Missouri
Peoples Bank of the Ozarks | Nixa | Missouri
First Midwest Bank of Ozark | Piedmont | Missouri
Peoples Savings Bank of Rhineland | Rhineland | Missouri
The State Bank | Richmond | Missouri
Town & Country Bank | Salem | Missouri
Farmers State Bank, S/B | Schell City | Missouri
Third National Bank | Sedalia | Missouri
Senath State Bank | Senath | Missouri
The Community Bank of Shell Knob | Shell Knob | Missouri
Old Missouri National Bank | Springfield | Missouri
First State Bank of St. Charles | St. Charles | Missouri
Midwest FS&LA of St. Joseph | St. Joseph | Missouri
Midwest BankCentre | St. Louis | Missouri
Edward D. Jones & Company | St. Louis | Missouri
The PrivateBank | St. Louis | Missouri
Bank of Thayer | Thayer | Missouri
Quarry City Savings and Loan Association | Warrensburg | Missouri
First State Bank of Cando | Cando | North Dakota
Citizens State Bank—Midwest | Cavalier | North Dakota
Union State Bank of Fargo | Fargo | North Dakota
U.S. Bank, N.A | Fargo | North Dakota
State Bank & Trust of Kenmare | Kenmare | North Dakota
Farmers & Merchants State Bank | Langdon | North Dakota
First Western Bank & Trust | Minot | North Dakota
Lakeside State Bank | New Town | North Dakota
McKenzie County Bank | Watford City | North Dakota
BankStar Financial | Elkton | South Dakota
Farmers State Bank | Flandreau | South Dakota
First State Bank of Claremont | Groton | South Dakota
Dakotaland Federal Credit Union | Huron | South Dakota
BankFirst | Sioux Falls | South Dakota
First Premier Bank | Sioux Falls | South Dakota
Home Federal Bank | Sioux Falls | South Dakota
Great Western Bank | Watertown | South Dakota
First State Bank | Wilmot | South Dakota
First National Bank South Dakota | Yankton | North Dakota
Federal Home Loan Bank of Dallas—District 9
First Community Bank | Batesville | Arkansas
Farmers Bank and Trust Company | Blytheville | Arkansas
First State Bank | Conway | Arkansas
River Town Bank | Dardanelle | Arkansas
First Financial Bank | El Dorado | Arkansas
Fordyce Bank & Trust Company | Fordyce | Arkansas
Forrest City Bank, NA | Forrest City | Arkansas
Benefit Bank | Ft. Smith | Arkansas
First State Bank of Northwest Arkansas | Huntsville | Arkansas
Simmons First Bank of South Arkansas | Lake Village | Arkansas
Southern State Bank | Malvern | Arkansas
Allied Bank | Mulberry | Arkansas
The First National Bank at Paris | Paris | Arkansas
Delta Trust & Bank | Parkdale | Arkansas
Pine Bluff National Bank | Pine Bluff | Arkansas
Simmons First Bank of Northwest Arkansas | Rogers | Arkansas
FNB of Stuttgart | Stuttgart | Arkansas
Red River Bank | Alexandria | Louisiana
E Federal Credit Union | Baton Rouge | Louisiana
Bank of Coushatta | Coushatta | Louisiana
St. Tammany Homestead Savings & Loan Association | Covington | Louisiana
City Savings Bank & Trust Company | DeRidder | Louisiana
Teche Federal Savings Bank | Franklin | Louisiana
Florida Parishes Bank | Hammond | Louisiana
Coastal Commerce Bank | Houma | Louisiana
Synergy Bank | Houma | Louisiana
Mutual Savings and Loan Association | Metairie | Louisiana
Eureka Homestead | Metairie | Louisiana
Guaranty Savings Bank | Metairie | Louisiana
Hibernia Homestead & Savings Association | New Orleans | Louisiana
Peoples Bank & Trust Company of Pointe Coupee Parish, Inc | New Roads | Louisiana
Homestead Bank | Ponchatoula | Louisiana
American Gateway Bank | Port Allen | Louisiana
Richland State Bank | Rayville | Louisiana
Bank of Ringgold | Ringgold | Louisiana
Bank of Ruston | Ruston | Louisiana
First Louisiana Bank | Shreveport | Louisiana
Bank of St. Francisville | St. Francisville | Louisiana
American Bank | Welsh | Louisiana
The Bank of Commerce | White Castle | Louisiana
Amory Federal Savings and Loan Association | Amory | Mississippi
Spirit Bank | Belmont | Mississippi
The Peoples Bank | Biloxi | Mississippi
Bank of Brookhaven | Brookhaven | Mississippi
The Cleveland State Bank | Cleveland | Mississippi
Commerce National Bank | Corinth | Mississippi
Bank of Holly Springs | Holly Springs | Mississippi
Community Bank of Meridian | Meridian | Mississippi
Britton & Koontz First National Bank | Natchez | Mississippi
Sycamore Bank | Senatobia | Mississippi
Mechanics Bank | Water Valley | Mississippi
First National Bank of Alamogordo | Alamogordo | New Mexico
International Bank | Raton | New Mexico
Tucumcari Federal Savings & Loan Association | Tucumcari | New Mexico
Reliance Standard Life Insurance Co. of Texas | Philadelphia | Pennsylvania
First State Bank | Athens | Texas
Community Resource Credit Union | Baytown | Texas
Fannin Bank | Bonham | Texas
First Financial Bank, N.A | Bridgeport | Texas
Texas Heritage Bank | Cross Plains | Texas
Zavala County Bank | Crystal City | Texas
Dallas National Bank | Dallas | Texas
NexBank, SSB | Dallas | Texas
Credit Union of Texas | Dallas | Texas
First United Bank | Dimmitt | Texas
First National Bank | Dublin | Texas
Fort Worth National Bank | Fort Worth | Texas
OmniAmerican Bank | Fort Worth | Texas
First State Bank | Frankston | Texas
Community Bank | Granbury | Texas
Bank of South Texas | Hebbronville | Texas
Community National Bank | Hondo | Texas
MetroBank, N.A | Houston | Texas
Central Bank | Houston | Texas
Southwestern National Bank | Houston | Texas
Texas State Bank | Joaquin | Texas
First State Bank Texas | Keene | Texas
Union State Bank | Killeen | Texas
First National Bank of Lake Jackson | Lake Jackson | Texas
First Federal Savings & Loan Association | Littlefield | Texas
Austin Bank | Longview | Texas
PlainsCapital Bank | Lubbock | Texas
Mason National Bank | Mason | Texas
Inter National Bank | McAllen | Texas
Mineola Community Bank S.S.B | Mineola | Texas
City National Bank | Mineral Wells | Texas
American National Bank | Mt. Pleasant | Texas
Commercial Bank of Texas, N.A. | Nacogdoches | Texas
Security State Bank | Odessa | Texas
Western National Bank | Odessa | Texas
Orange Savings Bank, SSB | Orange | Texas
Lone Star National Bank | Pharr | Texas
Beal Bank, SSB | Plano | Texas
Texas Republic Bank, N.A | Quanah | Texas
South Padre Bank, N.A | South Padre Island | Texas
Woodforest National Bank | Spring | Texas
First National Bank of Trinity | Trinity | Texas
Citizens State Bank | Tyler | Texas
First National Bank of Bosque County | Valley Mills | Texas
Community Bank and Trust | Waco | Texas
Extraco Banks, National Association | Waco | Texas
First National Bank of Central Texas | Waco | Texas
Federal Home Loan Bank of Topeka—District 10
Commerce Bank | Aurora | Colorado
Citywide Banks | Aurora | Colorado
Premier Members Federal Credit Union | Boulder | Colorado
First National Bank, Cortez | Cortez | Colorado
Del Norte Federal Bank | Del Norte | Colorado
Rocky Mountain Law Enforcement Federal Credit Union | Denver | Colorado
Premier Bank | Denver | Colorado
Colorado United Credit Union | Denver | Colorado
Bank of the San Juans | Durango | Colorado
FirstBank of Evergreen | Evergreen | Colorado
Fort Morgan State Bank | Fort Morgan | Colorado
FirstBank of Greeley | Greeley | Colorado
First National Bank | Julesberg | Colorado
Kit Carson State Bank | Kit Carson | Colorado
The State Bank | La Junta | Colorado
First National Bank of Lake City & Creede | Lake City | Colorado
Home State Bank | Loveland | Colorado
First National Bank of Paonia | Paonia | Colorado
FirstBank of Parker | Parker | Colorado
The First National Bank of Stratton | Stratton | Colorado
Prairie State Bank | Augusta | Kansas
First National Bank in Belleville | Belleville | Kansas
Bank of Commerce | Chanute | Kansas
Home Savings Bank | Chanute | Kansas
Farmers & Merchants Bank of Colby | Colby | Kansas
Legacy Bank | Colwich | Kansas
The State Bank of Conway Springs | Conway Springs | Kansas
Farmers & Drovers Bank | Council Grove | Kansas
Citizens State Bank & Trust Company | Ellsworth | Kansas
The State Bank of Kansas | Fredonia | Kansas
Gardner National Bank | Gardner | Kansas
Community Bank of the Midwest | Great Bend | Kansas
The Halstead Bank | Halstead | Kansas
Security Bank of Kansas City | Kansas City | Kansas
Douglas County Bank | Lawrence | Kansas
First National Bank and Trust Company of Leavenworth | Leavenworth | Kansas
National Bank of Kansas City | Leewood | Kansas
Western National Bank | Lenexa | Kansas
Lyons State Bank | Lyons | Kansas
Farmers State Bank | McPherson | Kansas
The Mission Bank | Mission | Kansas
Mulvane State Bank | Mulvane | Kansas
Farmers State Bank | Oakley | Kansas
First National Bank of Olathe | Olathe | Kansas
Valley View State Bank | Overland Park | Kansas
Citizens State Bank | Paola | Kansas
University National Bank | Pittsburg | Kansas
Alliant Bank | Sedgwick | Kansas
TriCentury Bank | Simpson | Kansas
First Bank | Sterling | Kansas
Valley State Bank | Syracuse | Kansas
The Tampa State Bank | Tampa | Kansas
The Kaw Valley State Bank and Trust Company | Topeka | Kansas
Community National Bank | Topeka | Kansas
INTRUST Bank, N.A | Wichita | Kansas
Chisholm Trail State Bank | Wichita | Kansas
Bank of The Valley | Bellwood | Nebraska
Bank of Bennington | Bennington | Nebraska
Washington County Bank | Blair | Nebraska
Custer Federal Savings and Loan Association | Broken Bow | Nebraska
First Central Bank | Cambridge | Nebraska
Citizens State Bank | Carleton | Nebraska
CerescoBank | Ceresco | Nebraska
First Bank and Trust Company | Cozad | Nebraska
Jefferson County Bank | Daykin | Nebraska
First National Bank in Exeter | Exeter | Nebraska
Farnam Bank | Farnam | Nebraska
First State Bank & Trust Company | Fremont | Nebraska
American National Bank of Fremont | Fremont | Nebraska
Gothenburg State Bank and Trust Company | Gothenburg | Nebraska
Five Points Bank of Hastings | Hastings | Nebraska
Henderson State Bank | Henderson | Nebraska
First State Bank | Imperial | Nebraska
Kearney State Bank & Trust Company | Kearney | Nebraska
Farmers State Bank | Maywood | Nebraska
First Central Bank McCook, NA | McCook | Nebraska
Farmers and Merchants Bank | Milligan | Nebraska
Centennial Bank | Omaha | Nebraska
Nebraska State Bank of Omaha | Omaha | Nebraska
First National Bank of Omaha | Omaha | Nebraska
The Potter State Bank of Potter | Potter | Nebraska
Peoples-Webster City Bank | Red Cloud | Nebraska
First State Bank | Shelton | Nebraska
Sutton State Bank | Sutton | Nebraska
First National Bank and Trust of Syracuse | Syracuse | Nebraska
Citizens Bank of Ada | Ada | Oklahoma
Stockmans Bank | Altus | Oklahoma
First National Bank in Altus | Altus | Oklahoma
The First National Bank and Trust Company of Broken Arrow | Broken Arrow | Oklahoma
Farmers Exchange Bank | Cherokee | Oklahoma
First National Bank and Trust Company of Chickasha | Chickasha | Oklahoma
1st Bank Oklahoma | Claremore | Oklahoma
Kirkpatrick Bank | Edmond | Oklahoma
Bank of Western Oklahoma | Elk City | Oklahoma
Inter Bank | Elk City | Oklahoma
Liberty Federal Savings Bank | Enid | Oklahoma
Fairview Savings and Loan Association | Fairview | Oklahoma
Oklahoma State Bank | Guthrie | Oklahoma
City National Bank & Trust Company | Guymon | Oklahoma
The Bank of Kremlin | Kremlin | Oklahoma
Liberty National Bank | Lawton | Oklahoma
Exchange National Bank | Moore | Oklahoma
The Morris State Bank | Morris | Oklahoma
Bank of Nichols Hills | Oklahoma City | Oklahoma
First Security Bank and Trust Company | Oklahoma City | Oklahoma
Oklahoma Educators Credit Union | Oklahoma City | Oklahoma
Citizens Bank of Oklahoma | Pawhuska | Oklahoma
Osage Federal Bank | Pawhuska | Oklahoma
Security Bank | Pawnee | Oklahoma
Exchange Bank and Trust Company | Perry | Oklahoma
Central National Bank of Poteau | Poteau | Oklahoma
First Pryority Bank | Pryor | Oklahoma
Peoples Bank & Trust Company | Ryan | Oklahoma
Southwest State Bank | Sentinel | Oklahoma
Advantage Bank | Spencer | Oklahoma
Bank of Commerce | Stilwell | Oklahoma
American Bank and Trust Company | Tulsa | Oklahoma
Bank South | Tulsa | Oklahoma
Sooner State Bank | Tuttle | Oklahoma
The Bank of Union | Union City | Oklahoma
First State Bank | Valliant | Oklahoma
Citizens' Bank | Velma | Oklahoma
First State Bank | Watonga | Oklahoma
Peoples Bank | Westville | Oklahoma
The Bank of Wyandotte | Wyandotte | Oklahoma
Yukon National Bank | Yukon | Oklahoma
Federal Home Loan Bank of San Francisco—District 11
Western Security Bank | Scottsdale | Arizona
Placer Sierra Bank | Auburn | California
Los Angeles National Bank | Buena Park | California
Burbank City Federal Credit Union | Burbank | California
Pacific Trust Bank | Chula Vista | California
Financial Partners Credit Union | Downey | California
Centennial Bank | Fountain Valley | California
Murphy Bank | Fresno | California
USC Credit Union | Los Angeles | California
Neighborhood National Bank | National City | California
Downey Savings and Loan Association | Newport Beach | California
Heritage Oaks Bank | Paso Robles | California
1st Centennial Bank | Redlands | California
Provident Credit Union | Redwood City | California
Provident Savings Bank | Riverside | California
Five Star Bank | Rocklin | California
First U.S. Community Credit Union | Sacramento | California
River City Bank | Sacramento | California
San Diego National Bank | San Diego | California
Pacific Coast Bankers' Bank | San Francisco | California
Bank of the Orient | San Francisco | California
Meriwest Credit Union | San Jose | California
Tamalpais Bank | San Rafael | California
Santa Cruz Community Credit Union | Santa Cruz | California
Los Padres Bank | Solvang | California
Sonoma Valley Bank | Sonoma | California
Bank of Stockton | Stockton | California
South Bay Bank, N.A | Torrance | California
Universal Bank, F.A | West Covina | California
Business Bank of Nevada | Las Vegas | Nevada
Federal Home Loan Bank of Seattle—District 12
Credit Union 1 | Anchorage | Alaska
Bank of America Oregon, N.A | San Francisco | California
Citizens Security Bank (Guam), Inc | Agana | Guam
D.L. Evans Bank | Burley | Idaho
Idaho Central Credit Union | Chubbuck | Idaho
FirstBank Northwest | Clarkston | Idaho
Panhandle State Bank | Coeur D'Alene | Idaho
First Citizens Bank of Billings | Billings | Montana
First Citizens Bank of Butte | Butte | Montana
Dutton State Bank | Dutton | Montana
Valley Bank of Glasgow | Glasgow | Montana
1st Liberty Federal Credit Union | Great Falls | Montana
Independence Bank | Havre | Montana
Manhattan State Bank | Manhattan | Montana
First Security Bank of Missoula | Missoula | Montana
Community Bank-Missoula, Inc | Missoula | Montana
Community Bank | Ronan | Montana
Basin State Bank | Stanford | Montana
Evergreen Federal S&LA | Grants Pass | Oregon
Bank of Eastern Oregon | Heppner | Oregon
South Valley Bank and Trust | Klamath Falls | Oregon
USU Community Credit Union | Logan | Utah
Franklin Templeton Bank & Trust, FSB | Salt Lake City | Utah
American Marine Bank | Bainbridge Island | Washington
Charter Bank | Bellevue | Washington
Fife Commercial Bank | Fife | Washington
The Bank of Washington | Lynnwood | Washington
Whidbey Island Bank | Oak Harbor | Washington
Olympia Federal Savings & LA | Olympia | Washington
Twin County Credit Union | Olympia | Washington
First FS & LA of Port Angeles | Port Angeles | Washington
Seattle Savings Bank | Seattle | Washington
Northwest Business Bank | Seattle | Washington
Washington Mutual Bank fsb | Seattle | Washington
Asia Europe-Americas Bank | Seattle | Washington
Simpson Community Federal Credit Union | Shelton | Washington
Old Standard Life Insurance Company | Spokane | Washington
Farmers & Merchants Bank of Rockford | Spokane | Washington
Western United Life Assurance Company | Spokane Valley | Washington
Riverview Community Bank | Vancouver | Washington
Yakima Federal Savings & Loan Association | Yakima | Washington
Tri-County National Bank | Cheyenne | Wyoming
The Rock Springs National Bank | Rock Springs | Wyoming
American National Bank of Rock Springs | Rock Springs | Wyoming

II. Public Comments

To encourage the submission of public comments on the community support performance of Bank members, on or before the January 26, 2007, each Bank will notify its Advisory Council and nonprofit housing developers, community groups, and other interested parties in its district of the members selected for this community support review cycle. 12 CFR 944.2(b)(2)(ii). In reviewing a member for community support compliance, the Finance Board will consider any public comments it has received concerning the member. 12 CFR 944.2(d). To ensure consideration by the Finance Board, comments concerning the community support performance of members selected for this review cycle must be delivered to the Finance Board on or before the February 26, 2007 deadline for submission of Community Support Statements.

Dated: January 3, 2007.
John P. Kennedy,
General Counsel.

[FR Doc. 07-106 Filed 1-11-07; 8:45 am]

BILLING CODE 6725-01-U